ENVIRONMENTAL PROTECTION AGENCY

[FRL-8323-3]

Final NPDES General Permit for Discharges From the Oil and Gas Extraction Point Source Category to Coastal Waters in Texas (TXG330000)

AGENCY: Environmental Protection Agency (EPA).

ACTION: Notice of NPDES General Permit Reissuance.

SUMMARY: EPA Region 6 today issues a National Pollutant Discharge Elimination System (NPDES) general permit regulating discharges from oil and gas wells in the Coastal Subcategory in Texas and regulating produced water discharges from wells in the Stripper and Offshore Subcategories which discharge into coastal waters of Texas.

The general permit prohibits the discharge of drilling fluid, drill cuttings, produced sand and well treatment, completion and workover fluids. Produced water discharges are prohibited, except from wells in the Stripper Subcategory located east of the 98th meridian whose produced water comes from the Carrizo/Wilcox, Reklaw or Bartosh formations in Texas. Monitoring for oil and grease and total dissolved solids is required for those produced water discharges. Discharge of dewatering effluent is prohibited, except from reserve pits which have not received drilling fluids and/or drill cuttings since January 15, 1997. The discharge of deck drainage, formation test fluids, sanitary waste, domestic waste and miscellaneous discharges is authorized.

A copy of the Region's final permit may be obtained from the EPA Region 6 Internet site: http://www.epa.gov/earth1r6/6wq/6wq.htm.

FOR FURTHER INFORMATION CONTACT: Ms. Diane Smith, Water Quality Protection Division, Region 6, U.S. Environmental Protection Agency, 1445 Ross Avenue, Dallas, Texas 75202-2733, telephone: (214) 665-7191, or via e-mail at: smith.diane@epa.gov.

SUPPLEMENTARY INFORMATION: Regulated entities. EPA intends to use the reissued permit to regulate oil and gas extraction facilities located in the coastal waters of Texas, e.g., oil and gas extraction platforms, but other types of facilities may also be subject to the permit. The permit authorizes some produced water discharges from Stripper Subcategory wells to coastal waters. To determine whether your facility, company, business, organization, etc., may be affected by today's action, you should carefully examine the applicability criteria in Part I, Section A.1 of the draft permit. Questions on the permit's application to specific facilities may also be directed to Ms. Smith at the telephone number or address listed above.

The permit contains limitations conforming to EPA's Oil and Gas extraction, Coastal and Stripper Subcategory Effluent Limitations Guidelines at 40 CFR Part 435 as well as requirements assuring that regulated discharges will comply with Texas State Water Quality Standards. Specific information on the derivation of those limitations and conditions is contained in the fact sheet.

Pursuant to section 402 of the Clean Water Act (CWA), 33 U.S.C. 1342, EPA proposed and solicited comments on NPDES general permit TXG330000 at 71 FR 78204 (December 28, 2006). Notice of the proposed permit modification was also published in the Houston Chronicle on December 30, 2006 and the Corpus Christi Caller on January 5, 2007. The comment period closed on February 20, 2007. No comments were received on the proposed permit; therefore, no changes have been made in the final permit.

Dated: May 31, 2007.
Miguel I. Flores,
Director, Water Quality Protection Division, Region 6.

[FR Doc. E7-11034 Filed 6-6-07; 8:45 am]

BILLING CODE 6560-50-P